DEPARTMENT OF THE INTERIOR

Bureau of Land Management

[LLOR-936000-L14300000-ET0000-14XL1109AF; HAG-14-0049; OR-19024]

Public Land Order No: 7827; Partial Withdrawal Revocation, Power Site Reserve No. 24, Oregon

AGENCY: Bureau of Land Management, Interior.

ACTION: Public Land Order.

SUMMARY: This order partially revokes a withdrawal created by an Executive Order dated July 2, 1910, insofar as it affects approximately 33.05 acres of public land withdrawn for protection of water power values by Power Site Reserve No. 24. This order also opens the land for conveyance by exchange, pursuant to the authority of Section 1754 of the Omnibus Public Land Management Act of 2009.

DATE: Effective Date: August 6, 2014.

FOR FURTHER INFORMATION CONTACT: Jenice Prutz, at the Bureau of Land Management, Oregon State Office, P.O. Box 2965, Portland, OR 97208-2965; or by telephone, 503-808-6163. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The subject land has been identified for conveyance by land exchange to the Confederated Tribes of the Warm Springs Reservation of Oregon pursuant to the Omnibus Public Land Management Act of 2009 (123 Stat. 1049), and therefore will not be restored to the public land laws. Additionally, the land is located within the designated boundary of the John Day Wild and Scenic River, withdrawn pursuant to the National Wild and Scenic Rivers System Act (16 U.S.C. 1271 et seq), and is not open to hydropower development.

Order

By virtue of the authority vested in the Secretary of the Interior by Section 204 of the Federal Land Policy and Management Act of 1976 (43 U.S.C. 1714), and pursuant to the determination by the Federal Energy Regulatory Commission in DV13-3-000, it is ordered as follows:

1. The withdrawal created by the Executive Order dated July 2, 1910, which established Power Site Reserve No. 24, is hereby revoked insofar as it affects the following described land:

Willamette Meridian

T. 8 S., R. 19 E.,

Sec. 3, lots 8 and 9.

The area described contains 33.05 acres in Wheeler County.

2. At 9 a.m. on August 6, 2014, the land described in Paragraph 1 is hereby open to conveyance pursuant to the authority under Section 1754 of the Act of March 20, 2009 (123 Stat. 1049).

Dated: July 20, 2014.
Janice M. Schneider,
Assistant Secretary—Land and Minerals Management.

[FR Doc. 2014-18613 Filed 8-5-14; 8:45 am]

BILLING CODE 4310-33-P